ENVIRONMENTAL PROTECTION AGENCY

[EPA-HQ-OPP-2025-3555; FRL-13147-01]

Tetflupyrolimet; Receipt of Applications for Emergency Exemption, Solicitation of Public Comment

AGENCY: Environmental Protection Agency (EPA).

ACTION: Notice.

SUMMARY: EPA is announcing specific exemption requests from the Arkansas and Missouri Departments of Agriculture to use the pesticide tetflupyrolimet, (CAS No. 2053901-33-8), to treat up to 546,000 and 100,000 acres of rice in Arkansas and Missouri, respectively to control Barnyardgrass resistant to multiple herbicides. The applicants propose the use of an active ingredient which has not been registered by EPA. EPA is soliciting public comment before making the decision whether or not to grant the exemptions.

DATES: Comments must be received on or before March 16, 2026.

ADDRESSES: The docket for this action, identified by docket identification (ID) number EPA-HQ-OPP-2025-3555, is available online at https://www.regulations.gov. Additional information about dockets generally, is available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-2875; email address: RDFRNotices@epa.gov.

SUPPLEMENTARY INFORMATION:

I. General information

A. Does this action apply to me?

You may be potentially affected by this action if you are an agricultural producer, food manufacturer, or pesticide manufacturer. The following list of North American Industrial Classification System (NAICS) codes is not intended to be exhaustive but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

C. What is EPA's authority for taking this action?

Under section 18 of the Federal Insecticide, Fungicide, and Rodenticide Act (FIFRA) (7 U.S.C. 136p), at the discretion of the EPA Administrator, a Federal or State agency may be exempted from any provision of FIFRA if the EPA Administrator determines that emergency conditions exist which require the exemption. EPA implementing regulations are set forth in 40 CFR part 166.

II. What action is the Agency taking?

EPA is announcing receipt of requests submitted to EPA under FIFRA section 18. This notice does not constitute a decision by EPA on the application itself. The regulations governing FIFRA section 18 require publication of a notice of receipt of an application for a specific exemption proposing use of a new chemical (i.e., an active ingredient) which has not been registered by EPA.

II. Summary of the Request Received

The Arkansas and Missouri Departments of Agriculture have requested the EPA Administrator to issue specific exemptions for the use of tetflupyrolimet on rice to control Barnyardgrass resistant to multiple herbicides. Information in accordance with 40 CFR part 166 was submitted as part of this request. As part of this request, the applicants assert that emergency conditions exist due to insufficient means to control Barnyardgrass resistant to rice herbicides, especially Barnyardgrass resistant to multiple herbicides, which leaves rice growers without an effective control option. The use of tetflupyrolimet will help avert significant economic losses.

The Applicants propose to make up to two applications of 8.6 fluid ounces of the unregistered product, KEENALI HERBICIDE (containing 35.0% tetflupyrolimet, equivalent to 3.34 lbs. of tetflupyrolimet per gallon of product) on up to a total of 646,000 acres of rice (546,000 in Arkansas and 100,000 in Missouri), from March 1, 2026 to July 1, 2026. If a maximum of two applications are made to the maximum requested acreage, a potential of 43,399 gallons of product (equivalent to 146,080 pounds of tetflupyrolimet) could be used.

The Agency will review and consider all comments received during the comment period in determining whether to issue the specific exemptions requested by the Arkansas and Missouri Departments of Agriculture.

Authority: 7 U.S.C. 136 et seq.

Dated: February 2, 2026.
Charles Smith,
Director, Registration Division, Office of Pesticide Programs.

[FR Doc. 2026-03939 Filed 2-26-26; 8:45 am]

BILLING CODE 6560-50-P